TENNESSEE VALLEY AUTHORITY

Shoreline Management Initiative, Reservoirs in Alabama, Georgia, Kentucky, Mississippi, North Carolina, Tennessee, and Virginia; Amendment to Record of Decision (ROD)

AGENCY: Tennessee Valley Authority (TVA).

ACTION: Issuance of Amendment to ROD.

SUMMARY: This notice is provided in accordance with the Council on Environmental Quality's regulations (40 CFR parts 1500 to 1508) and TVA's procedures implementing the National Environmental Policy Act. In 1999, TVA adopted its current Shoreline Management Policy (SMP) to implement the preferred alternative in the November 1998 environmental impact statement (EIS) for the Shoreline Management Initiative (SMI). On August 20, 2009, the TVA Board of Directors decided to amend SMP to terminate the “Maintain and Gain” program, which allowed for the exchange of shoreline access rights of equal or greater value. TVA determined that the environmental impacts of the modification of SMP would not materially differ from the impacts quantified in the original EIS and that the effect of removing the Maintain and Gain provision is adequately addressed in the EIS. The environmental and project goals of the SMI and SMP would still be met without the Maintain and Gain program.

FOR FURTHER INFORMATION CONTACT: Charles P. Nicholson, Program Manager, NEPA Compliance, Environment and Technology, Tennessee Valley Authority, 400 West Summit Hill Drive, WT 11D, Knoxville, Tennessee 37902-1499; telephone (865) 632-3582 or e-mail cpnicholson@tva.gov.

SUPPLEMENTARY INFORMATION: In 1999, TVA adopted SMP to implement the April 1999 TVA Board decision to adopt the preferred alternative (Blended Alternative) of the November 1998 EIS entitled “Shoreline Management Initiative: An Assessment of Residential Shoreline Development Impacts in the Tennessee Valley.” In June 1999, TVA published a ROD in the Federal Register (64 FR 300092, June 4, 1999) reflecting this decision. The Blended Alternative emphasized conservation of shoreline resources and no net loss of public lands while providing for reasonable access and compatible use of the shoreline by adjacent residents. It also included the Maintain and Gain program that allowed TVA to consider requests from property owners without shoreline access rights to obtain those rights in exchange for eliminating shoreline access rights of equal or preferably greater length and value; such exchanges would result in no net loss, or preferably a net gain, of public shoreline.

TVA recently reviewed the Maintain and Gain program. Since its inception in 1999, TVA has approved nine Maintain and Gain requests for the exchange of water access rights on TVA reservoirs, which have resulted in only a small increase in the amount of shoreline protected. The closing of 7,113 linear feet of shoreline for private water use access rights and opening 6,036 linear feet of shoreline access rights to private landowners has yielded a net gain of 1,077 linear feet of shoreline closed to residential water use access. Overall, this is less than one-tenth of 1 percent of the 4,100 miles of shoreline available for private water use throughout the Tennessee Valley.

The Maintain and Gain program was used infrequently, and the decisions required to be made thereunder were vulnerable to some inconsistency. TVA has determined that the elimination of the Maintain and Gain program would have minor and insignificant environmental impacts and that such impacts would not significantly differ from the impacts quantified in the original EIS. The environmental and project goals of the SMI and SMP would still be met. Consequently, the TVA Board of Directors terminated the Maintain and Gain program on August 20, 2009. The termination of the Maintain and Gain program does not affect the other key components of SMP, such as the use of vegetation management plans, limits to the size of residential water use facilities, use of shoreline management zones, management of access/view corridor size, use of best management practices for construction, management of vegetation, stabilization of shoreline erosion, and education activities.

Dated: February 25, 2010.
Anda Ray,
Senior Vice President of Environment and Technology and Environmental Executive.

[FR Doc. 2010-4663 Filed 3-8-10; 8:45 am]

BILLING CODE 8120-08-P